DEPARTMENT OF THE TREASURY

Office of the Comptroller of the Currency

Office of Thrift Supervision

FEDERAL DEPOSIT INSURANCE CORPORATION

Agency Information Collection Activities: Submission for OMB Review; Comment Request

AGENCIES: Office of the Comptroller of the Currency (OCC), Treasury; Office of Thrift Supervision (OTS), Treasury; and Federal Deposit Insurance Corporation (FDIC).

ACTION: Notice of information collection to be submitted to OMB for review and approval under the Paperwork Reduction Act of 1995.

SUMMARY: In accordance with requirements of the Paperwork Reduction Act of 1995 (44 U.S.C. 3501 et seq.), the OCC, the OTS and the FDIC (collectively, the agencies) give notice that they plan to submit to the Office of Management and Budget (OMB) a request for OMB review and approval of an information collection titled “Interagency Guidance on Asset Securitization Activities.” The agencies may not conduct or sponsor, and a respondent is not required to respond to, an information collection unless it displays a currently valid control number.

DATES: Comments must be submitted on or before May 10, 2004.

ADDRESSES: You are invited to submit a comment to the OMB Desk Officer and any or all of the agencies. Please direct your comments as follows:

OMB: Mark Menchik, Desk Officer, Office of Information and Regulatory Affairs, Office of Management and Budget, New Executive Office Building, Room 10235, Washington, DC 20503. Alternatively, you may send a comment by facsimile transmission to (202) 395-6974, or by electronic mail to mmenchik@omb.eop.gov.

OCC: Communications Division, Office of the Comptroller of the Currency, 250 E Street, SW., Third Floor, Attention: 1557-0217, Washington, DC 20219. Alternatively, you may send a comment by facsimile transmission to (202) 874-5274, or by electronic mail to regs.comments@occ.treas.gov. You can inspect and photocopy the comments at the OCC's Public Reference Room, 250 E Street, SW., Washington, DC, between 9 a.m. and 5 p.m. on business days. You can make an appointment to inspect the comments by calling (202) 874-5043.

OTS: Information Collection Comments, Chief Counsel's Office, Office of Thrift Supervision, 1700 G Street, NW., Washington, DC 20552, Attention: 1550-0104. You may fax your comments to (202) 906-6518, or e-mail them to infocollection.comments@ots.treas.gov. OTS will post comments and the related index on the OTS Internet site at www.ots.treas.gov. In addition, interested persons may inspect comments at the Public Reading Room, 1700 G Street, NW., by appointment. To make an appointment, call (202) 906-5922, send an e-mail to publicinfo@ots.treas.gov, or send a facsimile transmission to (202) 906-7755.

FDIC: Steven F. Hanft, Paperwork Control Officer, Legal Division Room MB-3064, FDIC, 550 17th Street, NW., Washington, DC 20429, (202) 898-3907, Attention: 3064-0137. You may also hand-deliver comments to the guard station at the rear of the 550 17th Street Building (located on F Street), on business days between 7 a.m. and 5 p.m., or fax comments to (202) 898-3838.

FOR FURTHER INFORMATION CONTACT: OCC: John Ference or Camille Dixon, (202) 874-5090, Legislative and Regulatory Activities Division, Office of the Comptroller of the Currency, 250 E Street, SW., Washington, DC 20219.

OTS: Marilyn K. Burton, (202) 906-6467, Clearance Officer, Office of Thrift Supervision, 1700 G Street, NW., Washington, DC 20552.

FDIC: Steven F. Hanft, (202) 898-3907, at the address listed earlier.

SUPPLEMENTARY INFORMATION:

Title: Interagency Guidance on Asset Securitization Activities.

OMB Numbers:

OCC: 1557-0217.

OTS: 1550-0104.

FDIC: 3064-0137.

Type of Review: Renewal, without change, of a currently approved collection.

Estimate of Annual Burden:

Estimated Number of Respondents:

OCC: 42.

OTS: 33.

FDIC: 20.

Estimated Responses per Respondent:

OCC: 1 per year.

OTS: 1 per year.

FDIC: 1 per year.

Estimated Total Annual Burden:

OCC: 306 hours.

OTS: 693 hours.

FDIC: 149 hours.

Abstract: The collection applies to institutions engaged in asset securitization and consists of a written asset securitization policy, the documentation of fair value of retained interests, and a management information system to monitor securitization activities. Institution management uses the collection as the basis for the safe and sound operation of their asset securitization activities. The agencies use the information to evaluate the quality of an institution's risk management practices.

FURTHER INFORMATION: You may obtain information about this submission, including a copy of the Interagency Guidance, by calling or writing the appropriate agency contact.

The Board of Governors of the Federal Reserve System has participated in the development and review of this information collection and will process its renewal of its information collection under its Paperwork Reduction Act delegated authority.

COMMENTS ARE INVITED ON: (a) Whether the collections of information are necessary for the proper performance of the functions of the agencies, including whether the information has practical utility;

(b) The accuracy of the agencies' estimates of the burden of the information collections;

(c) Ways to enhance the quality, utility, and clarity of the information to be collected;

(d) Ways to minimize the burden of the collection on the respondents, including through the use of automated collection techniques or other forms of information technology; and

(e) Estimates of capital or startup costs and costs of operation, maintenance, and purchase of services to provide information.

Dated: March 25, 2004.
Mark J. Tenhundfeld,
Assistant Director, Legislative and Regulatory Activities Division, Office of the Comptroller of the Currency.
Dated: March 30, 2004.
By the Office of Thrift Supervision.
Richard M. Riccobono,
Deputy Director.
Dated in Washington, DC, this 25th day of March, 2004.
Federal Deposit Insurance Corporation.
Robert E. Feldman,
Executive Secretary.

[FR Doc. 04-8036 Filed 4-8-04; 8:45 am]

BILLING CODE 4810-33-P; 6720-01-P; 6714-01-P